DEPARTMENT OF COMMERCE

National Oceanic and Atmospheric Administration

RIN 0648-XF385

North Pacific Fishery Management Council; Public Meeting

AGENCY: National Marine Fisheries Service (NMFS), National Oceanic and Atmospheric Administration (NOAA), Commerce.

ACTION: Notice of public meeting.

SUMMARY: The Center of Independent Experts will meet May 22 through May 25, 2017 to review the stock assessment of Gulf of Alaska Pollock.

DATES: The meeting will be held on Monday, May 22, 2017 through Thursday, May 25, 2017, from 9 a.m. to 5 p.m.

ADDRESSES: The meeting will be held at the Alaska Fisheries Science Center, Building 4, Room 2039, 7600 Sand Point Way NE., Seattle, WA 98115.

Council address: North Pacific Fishery Management Council, 605 W. 4th Ave., Suite 306, Anchorage, AK 99501-2252; telephone: (907) 271-2809.

FOR FURTHER INFORMATION CONTACT: Jim Armstrong, NPFMC staff; telephone: (907) 271-2809.

SUPPLEMENTARY INFORMATION:

Terms of Reference:

1. Evaluation of the ability of the stock assessment model, with the available data, to provide parameter estimates to assess the current status of pollock in the Gulf of Alaska.

2. Evaluation of the strengths and weaknesses in the stock assessment model for GOA pollock.

3. Review of the use of indices from spatial delta-GLMM models rather than area-swept estimates as abundance indices for the bottom trawl survey.

4. Review of the use of biomass and size composition estimates from the acoustic survey that have been corrected for net selectivity.

5. Potential evaluation of an equivalent walleye pollock assessment model in Stock Synthesis.

Although other non-emergency issues not on the agenda may come before this group for discussion, in accordance with the Magnuson-Stevens Fishery Conservation and Management Act, those issues may not be the subject of formal action during these meetings. Actions of the Council will be restricted to those issues specifically identified in the agenda and any issues arising after publication of this notice that require emergency action under Section 305(c) of the Magnuson-Stevens Fishery Conservation and Management Act, provided the public has been notified of the Council's intent to take action to address the emergency.

Special Accommodations

These meetings are physically accessible to people with disabilities. Requests for sign language interpretation or other auxiliary aids should be directed to Shannon Gleason at (907) 271-2809 at least 7 working days prior to the meeting date.

Dated: May 3, 2017.
Tracey L. Thompson,
Acting Deputy Director, Office of Sustainable Fisheries, National Marine Fisheries Service.

[FR Doc. 2017-09221 Filed 5-5-17; 8:45 am]

BILLING CODE 3510-22-P